COMMODITY FUTURES TRADING COMMISSION

Sunshine Act Meetings

TIME AND DATE: 1:00 p.m. EDT, Thursday, June 4, 2020.

PLACE: This meeting will be convened on a telephone conference call.

STATUS: Closed.

MATTERS TO BE CONSIDERED: Enforcement and adjudicatory matters. In the event that the time, date, or location of this meeting changes, an announcement of the change, along with the new time, date, and/or place of the meeting will be posted on the Commission's website at https://www.cftc.gov/.

CONTACT PERSON FOR MORE INFORMATION: Christopher Kirkpatrick, 202-418-5964.

Authority: 5 U.S.C. 552b.

Dated: May 26, 2020.
Christopher Kirkpatrick,
Secretary of the Commission.

[FR Doc. 2020-11631 Filed 5-26-20; 4:15 pm]

BILLING CODE 6351-01-P